DEPARTMENT OF COMMERCE

National Oceanic and Atmospheric Administration

50 CFR Part 648

[Docket No: 200428-0122; RTID 0648-XA507]

Fisheries of the Northeastern United States; Atlantic Herring Fishery; 2020 Management Area 1A Sub-Annual Catch Limit Harvested

AGENCY: National Marine Fisheries Service (NMFS), National Oceanic and Atmospheric Administration (NOAA), Commerce.

ACTION: Temporary rule; closure.

SUMMARY: NMFS is closing the directed fishery for Herring Management Area 1A. This closure is required because NMFS projects that 92 percent of the catch amount for Management Area 1A has been caught. This action is intended to prevent overharvest of Atlantic herring in Management Area 1A, which will result in additional quota reductions next year.

DATES: Effective 00:01 hr local time, November 11, 2020, through December 31, 2020.

FOR FURTHER INFORMATION CONTACT: Aly Pitts, Fishery Management Specialist, (978) 281-9352.

SUPPLEMENTARY INFORMATION: The Regional Administrator of the Greater Atlantic Regional Office monitors Atlantic herring fishery catch in each of the management areas based on vessel and dealer reports, state data, and other available information. The regulations at 50 CFR 648.201 require that when Atlantic herring catch will reach 92 percent of the Management Area 1A sub-annual catch limit (sub-ACL), federally permitted vessels are prohibited from fishing for, possessing, transferring, receiving, landing, or selling more than 2,000 lb (907.2 kg) of Atlantic herring per trip or calendar day in or from the specified management area.

The Regional Administrator has projected, based on vessel and dealer reports, and other available information, that the Atlantic herring fleet will have caught 92 percent of the Management Area 1A sub-ACL by November 11, 2020. Therefore, effective 00:01 hr local time, November 11, 2020, vessels may not fish for, possess, transfer, receive, land, or sell more than 2,000 lb (907.2 kg) of Atlantic herring per trip or calendar day, in or from Management Area 1A, through December 31, 2020. Vessels that have entered port before 00:01 hr local time, November 11, 2020, may land and sell more than 2,000 lb (907.2 kg) of Atlantic herring from Area 1A from that trip. A vessel may transit through Area 1A with more than 2,000 lb (907.2 kg) of Atlantic herring on board, provided all herring was caught outside of Area 1A and all fishing gear is stowed and not available for immediate use as defined by § 648.2. All herring vessels must land in accordance with state landing restrictions.

Effective 00:01 hr local time, November 11, 2020, through 24:00 hr local time, December 31, 2020, federally permitted dealers may not purchase, possess, receive, sell, barter, trade or transfer more than 2,000 lb (907.2 kg) of Atlantic herring per trip or calendar day from Area 1A from a vessel issued and holding a valid Federal herring permit, unless it is from a trip landed by a vessel that entered port before 00:01 hr local time, November 11, 2020, and that catch is landed in accordance with state regulations.

Classification

This action is required by 50 CFR part 648 and is exempt from review under Executive Order 12866.

NMFS finds good cause pursuant to 5 U.S.C. 553(b)(3)(B) to waive prior notice and the opportunity for public comment because it would be contrary to the public interest and impracticable. NMFS also finds good cause to waive the 30-day delayed effectiveness in accordance with 5 U.S.C 553(d)(3). NMFS is required by Federal regulation to implement a 2,000-lb (907.2-kg) Atlantic herring possession limit for Management Area 1A through the calendar year when 92 percent of the area quota is projected to be harvested. The 2020 Atlantic herring fishing year began on January 1, 2020, and Management Area 1A opened to fishing on June 1, 2020. Data indicating the Atlantic herring fleet will have landed at least 92 percent of the 2020 sub-ACL allocated to Management Area 1A only recently became available. High-volume catch and landings in this fishery increase total catch relative to the sub-ACL quickly, especially in this fishing year where annual catch limits are unusually low. If implementation of this closure is delayed to solicit prior public comment, the sub-ACL for Management Area 1A for this fishing year will likely be exceeded; thereby, undermining the conservation objectives of the FMP. If sub-ACLs are exceeded, the excess must be deducted from a future sub-ACL and would reduce future fishing opportunities. In addition, the public had prior notice and full opportunity to comment on this process when these provisions were put in place. The public expects these actions to occur in a timely way consistent with the fishery management plan's objectives.

Authority: 16 U.S.C. 1801 et seq.

Dated: November 9, 2020.
Jennifer M. Wallace,
Acting Director, Office of Sustainable Fisheries, National Marine Fisheries Service.

[FR Doc. 2020-25195 Filed 11-10-20; 4:15 pm]

BILLING CODE 3510-22-P